DEPARTMENT OF STATE

[Public Notice 4234]

Culturally Significant Objects Imported for Exhibition Determinations: “The Devonshire Inheritance: Five Centuries of Collecting at Chatsworth”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “The Devonshire Inheritance: Five Centuries of Collecting at Chatsworth,” imported from abroad for temporary exhibition within the United States, are of cultural significance. The objects are imported pursuant to loan agreements with the foreign owners. I also determine that the exhibition or display of the exhibit objects at Dixon Gallery and Gardens, Memphis, TN from on or about April 24, 2003, to on or about August 17, 2003, at Bard Graduate Center for Studies in the Decorative Arts, New York, NY from on or about March 10, 2004 to on or about June 20, 2004, at Peabody Essex Museum, Salem, MA from on or about August 14, 2004 to on or about November 7, 2004, at the Society of the Four Arts, Palm Beach, FL from on or about December 7, 2004 to on or about January 16, 2005, at Tyler Museum of Art, Tyler, TX from on or about July 16, 2005 to on or about October 8, 2005, and at possible additional venues yet to be determined, is in the national interest. Public Notice of these Determinations is ordered to be published in the Federal Register.

FOR FURTHER INFORMATION CONTACT: For further information, including a list of the exhibit objects, contact Office of the Legal Adviser, U.S. Department of State, (telephone: 202/619-6982). The address is U.S. Department of State, SA-44, 301 4th Street, SW., Room 700, Washington, D.C. 20547-0001.

Dated: December 5, 2002.
Patricia S. Harrison,
Assistant Secretary for Educational and Cultural Affairs, Department of State.

[FR Doc. 02-32124 Filed 12-19-02; 8:45 am]

BILLING CODE 4710-08-P